DEPARTMENT OF ENERGY

Federal Energy Regulatory Commission

[Project No. 659]

Notice of Intent To File Application for New License

July 2, 2003.

a. Type of Filing: Notice of Intent to File Application for a New License.

b. Project No.: 659.

c. Date Filed: June 18, 2003.

d. Submitted By: Crisp County Power Commission—current licensee.

e. Name of Project: Lake Blackshear Hydroelectric Project.

f. Location: On the Flint River, in Crisp, Dooly, Lee, Sumter, and Worth Counties, Georgia.

g. Filed Pursuant to: Section 15 of the Federal Power Act.

h. Licensee Contact: Steve Rentfrow, General Manager, Crisp County Power Commission, P.O. Box 1218, Cordelle, GA 31010; 229-273-3811; srentfrow@crispcountypower.com.

i. FERC Contact: Janet Hutzel at 202-502-8675; janet.hutzel@ferc.gov.

j. Effective Date of Current License: August 14, 1980.

k. Expiration Date of Current License: August 9, 2008.

l. Description of the Project: (1) A 415-foot-long, 49-foot-high gated spillway; (2) a 630-foot-long auxiliary spillway; (3) a 3,410-foot-long north embankment; (4) a 680-foot-long south embankment; (5) a 8,700-acre impoundment at a full pool elevation of 237 feet mean sea level; (6) a powerhouse containing four turbines with a total installed capacity of 15.2 MW; (7) a 1,400-foot-long, 46-kV transmission line; and (8) appurtenant facilities. No new facilities are proposed.

m. Each application for a new license and any competing license applications must be filed with the Commission at least 24 months prior to the expiration of the existing license. All applications for license for this project must be filed by August 9, 2006.

n. A copy of this filing is available for review at the Commission in the Public Reference Room or may be viewed on the Commission's Web site at http://www.ferc.gov using the "FERRIS" link. Enter the docket number to access the document excluding the last three digits in the docket number field to access the document. For assistance, contact FERC Online Support at FERCOnlineSupport@ferc.gov or toll-free at 1-866-208-3676, or TTY 202-502-8659. A copy is also available for inspection and reproduction at the address in item h above.

o. Register online at http://www.ferc.gov/esubscribenow.htm to be notified via e-mail of new filings and issuances related to this or other pending projects. For assistance, contact FERC Online Support as shown in the paragraph above.

Magalie R. Salas,
Secretary.

Mailing List for P-659

MELTON CULPEPPER

CULPEPPER, PFEIFFER & HARPE

PO Box 584

Cordele, GA 31010-0584

GENE FORD PLANT MGR.

Crisp County Power Commission

PO Box 1218

Cordele, GA 31010-1218

STEVE RENTFROW

GEN. MANAGER

Crisp County Power Commission

PO Box 1218

Cordele, GA 31010-1218

John R. Molm

Troutman Sanders LLP

401 9th St NW Ste 1000

Washington, DC 20004-2146

CHAIRMAN

CRISP, COUNTY OF

BOARD OF COMMISSIONERS

CORDELE, GA 31015

Regional Engineer

Federal Energy Regulatory Commission

Atlanta Regional Office

3125 Presidential Pkwy Ste 300

Atlanta, GA 30340-3700

DIRECTOR

GEORGIA DEPT OF AGRICULTURE

AGRICULTURE BUILDING

CAPITOL SQUARE

ATLANTA, GA 30334

DAVID WALLER DIRECTOR

Georgia Dept. of Natural Resources

WILDLIFE RESOURCES DIVISION

2070U Highway 278 SE

Social Circle, GA 30025-4711

Jon Ambrose Program Manager

Georgia Dept. of Natural Resources

NATURAL HERITAGE PROGRAM

2117 Highway 278 SE

Social Circle, GA 30025-4714

DIRECTOR

Georgia Environmental Protection Div.

DEPARTMENT OF NATURAL RESOURCES

205 Butler St SE Ste 1152

Atlanta, GA 30334-9041

DIRECTOR

GEORGIA FORESTRY COMMISSION PO Bo

x 819

Macon, GA 31202-0819

DIRECTOR

GEORGIA GEOLOGIC SURVEY

DEPARTMENT OF NATURAL RESOURCES/EPD

19 Martin Luther King Jr Dr SW

Atlanta, GA 30334-9004

Ray Luce Director

Georgia Historic Preservation Division

151 Trinity Ave SW Ste 101

Atlanta, GA 30303-3625

DIRECTOR

GEORGIA OFFICE OF PLANNING & BUDGET

270 Washington St SW

Atlanta, GA 30334-9009

ATTORNEY GENERAL

GEORGIA OFFICE OF THE ATTORNEY GENERAL

132 STATE JUDICIAL BUILDING

ATLANTA, GA 30334

SECRETARY

Georgia Public Service Commission

244 Washington St SW

Atlanta, GA 30334-9007

REGIONAL DIRECTOR

GEORGIA REGIONAL FORESTER

SOUTHERN REGION

1720 Peachtree St NW

Atlanta, GA 30309-2449

DIRECTOR

GEORGIA STATE SOIL & WATER CONSERV COMM

PO Box 8024

Athens, GA 30603-8024

C. Ronald Carroll Director

Institute of Ecology

University of Georgia

UNIV OF GEORGIA

ATHENS, GA 30602-0002

CHAIRMAN

LEE, COUNTY OF

BOARD OF COMMISSIONERS

LEESBURG, GA 31763

REGIONAL DIRECTOR

National Marine Fisheries Service

SOUTHEAST REGIONAL OFFICE

9721 Executive Center Dr N

Saint Petersburg, FL 33702-2449

SOUTHEAST REGION DIRECTOR

National Marine Fisheries Service

NORTHEAST REGIONAL OFFICE—DOC/NOAA

1 Blackburn Dr

Gloucester, MA 01930-2237

LONICE BARRETT DIRECTOR

PARKS & HISTORIC SITES DIVISION

DEPARTMENT OF NATURAL RESOURCES

205 Butler St SE Ste 1352

Atlanta, GA 30334-9043

CHAIRMAN

SUMTER, COUNTY OF

BOARD OF COMMISSIONERS

AMERICUS, GA 31709

Georgia Field Office Director

U.S. Fish & Wildlife Service

247 S Milledge Ave

Athens, GA 30605--1045

CYNTHIA BOHN

U.S. Fish & Wildlife Service

ECOLOGICAL SERVICES

1875 Century Blvd NE Ste 200

Atlanta, GA 30345-3319

REGIONAL DIRECTOR

U.S. National Park Service

U.S. DEPARTMENT OF THE INTERIOR

100 Alabama St SW

Atlanta, GA 30303-8701

COMMANDER

US Army Corps of Engineers

PO Box 1159

Cincinnati, OH 45201-1159

CHARLES YANNY

US Army Corps of Engineers

PO Box 2288

Mobile, AL 36628-0001

DISTRICT ENGINEER

US Army Corps of Engineers

PO Box 889

Savannah, GA 31402-0889

COMMANDER

US Army Corps of Engineers

S. ATLANTIC DIV.—ATTN: CESAD-ET-CO-H

60 Forsyth St SW Rm 9M15

Atlanta, GA 30303-8801

Fred Allgaier

US Bureau of Indian Affairs

3000 Youngfield St Ste 230

Lakewood, CO 80215-6551

Solicitors Office

US Bureau of Indian Affairs

1849 C St NW Rm 6454

Washington, DC 20240-0001

Malka Pattison

US Bureau of Indian Affairs

Office of Trust Responsibilities

1849 C Street, NW., MS 4513 MIB

Washington, DC 20240-0001

Dr. James Kardatzke, Ecologist

US Bureau of Indian Affairs

Eastern Regional Office

711 Stewarts Ferry Pike

Nashville, TN 37214-2751

DISTRICT MANAGER

US Bureau of Land Management

PO Box 631

Milwaukee, WI 53201-0631

DISTRICT MANAGER

US Bureau of Land Management

JACKSON DISTRICT OFFICE

411 Briarwood Dr Ste 404

Jackson, MS 39206-3058

COMMANDING OFFICER

US Coast Guard

MSO SAVANNAH

222 W Oglethorpe Ave Ste 402

Savannah, GA 31401-3665

JAMES LEE

US Department of the Interior

RUSSELL FEDERAL BUILDING

75 Spring St SW Ste 1144

Atlanta, GA 30303-3308

DIRECTOR

US Department of the Interior

OFFICE OF THE SOLICITOR

75 Spring St SW Ste 1328

Atlanta, GA 30303-3309

REGIONAL ADMINISTRATOR

US ENVIRONMENTAL PROTECTION AGENCY

REGION IV

61 Forsyth St SW

Atlanta, GA 30303-8931

Diana M. Woods

US Environmental Protection Agency

Wetlands Section

61 Forsyth St SW

Atlanta, GA 30303-8931

SANFORD D. BISHOP, JR. HONORABLE

US House of Representatives

WASHINGTON, DC 20515

Zell Miller Honorable

US Senate

Washington, DC 20510

Chambliss Saxby Honorable

US Senate

Washington, DC 20510

CHAIRMAN WORTHY,

COUNTY OF

BOARD OF COMMISSIONERS

SYLVESTER, GA 31791

[FR Doc. 03-18937 Filed 7-24-03; 8:45 am]

BILLING CODE 6717-01-P